DEPARTMENT OF HEALTH AND HUMAN SERVICES

Administration for Children and Families

Submission for OMB Review; Comment Request

Title: OCSE-157 Child Support Enforcement Program Annual Data Report.

OMB No.: 0970-0177.

Description: The information obtained from this form will be used to report Child Support Enforcement activities to the Congress as required by law, to complete incentive measure and performance indicators utilized in the program, and to assist the Office of Child Support Enforcement in monitoring and evaluating State Child Support programs.

Respondents: The 50 States, the Territories and the Virgin Islands.

Annual Burden Estimates:

Instrument | Number of respondents | Number of responses per respondent | Average burden hours per response | Total burden hours
OCSE-157 | 54 | 1 | 7.0 | 378.0

Estimated Total Annual Burden Hours: 378.0

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, e-mail address: Katherine_T._Astrich@omb.eop.gov.

Dated: May 30, 2005.
Robert Sargis,
Reports Clearance Officer.

[FR Doc. 05-11193 Filed 6-3-05; 8:45 am]

BILLING CODE 4184-01-M